DEPARTMENT OF THE INTERIOR

Bureau of Land Management

[CO-134-1610-DQ]

Notice of Extension of the Call for Nominations for the McInnis Canyons National Conservation Area (NCA) Advisory Council

AGENCY: Bureau of Land Management, Interior.

ACTION: Notice.

SUMMARY: The Bureau of Land Management (BLM) is extending the call for nominations for ten membership positions on the McInnis Canyons National Conservation Area Advisory Council. The original notice calling for nominations published in the Federal Register on September 14, 2005 [70 FR 54403]. The original deadline for the call for nominations was October 14, 2005. The purpose of this notice is to extend the nomination period until October 31, 2005. The Council advises the Secretary and the BLM on resource management issues associated with the McInnis Canyons NCA and Black Ridge Canyons Wilderness.

DATES: Submit a completed nomination form and nomination letters to the address listed below no later than October 31, 2005.

ADDRESSES: Send completed nominations to: McInnis Canyons NCA Manager, Grand Junction Field Office, Bureau of Land Management, 2815 H Road, Grand Junction, CO 81506.

FOR FURTHER INFORMATION CONTACT: Maggie Langlas, Program Analyst NLCS, (202) 491-9725, margaret_langlas@blm.gov.

Dated: October 17, 2005.
Holly Hampton,
Acting Group Manager, National Monuments and National Conservation Areas, National Landscape Conservation System.

[FR Doc. 05-21398 Filed 10-25-05; 8:45 am]

BILLING CODE 4310-22-P